COMMITTEE FOR PURCHASE FROM PEOPLE WHO ARE BLIND OR SEVERELY DISABLED

Procurement List; Additions and Deletions

AGENCY: Committee for Purchase From People Who Are Blind or Severely Disabled.

ACTION: Additions to and deletions from the procurement list.

SUMMARY: This action adds product(s) and service(s) to the Procurement List that will be furnished by nonprofit agencies employing persons who are blind or have other severe disabilities, and deletes product(s) and service(s) from the Procurement List previously furnished by such agencies.

DATES: Date added to and deleted from the Procurement List: January 10, 2021

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 8/21/2020, 9/4/2020 and 9/11/2020, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the service(s) and impact of the additions on the current or most recent contractors, the Committee has determined that the service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the service(s) to the Government.

2. The action will result in authorizing small entities to furnish the service(s) to the Government.

3. There are no known regulatory alternatives which would accomplish the objectives of the Javits-Wagner-O'Day Act (41 U.S.C. 8501-8506) in connection with the service(s) proposed for addition to the Procurement List.

End of Certification

Accordingly, the following service(s) are added to the Procurement List:

Service(s)

Service Type: Base Supply Center and Retail Gift Shop

Mandatory for: Bureau of Alcohol, Firearms, Tobacco and Explosives, Washington, DC

Designated Source of Supply: Virginia Industries for the Blind, Charlottesville, VA

Contracting Activity: ATF ACQUISITION AND PROPERTY MGMT DIV, ATF

Service Type: Janitorial Service

Mandatory for: FAA, Portland Air Traffic Control Tower and SSC Office Space, Portland, ME

Designated Source of Supply: Northern New England Employment Services, Portland, ME

Contracting Activity: FEDERAL AVIATION ADMINISTRATION, 697DCK REGIONAL ACQUISITIONS SVCS

Service Type: Janitorial Service

Mandatory for: Federal Aviation Administration, Norfolk Air Traffic Control Tower, Virginia Beach, VA and Patrick Henry Field Air Traffic Control Tower, Newport News, VA

Designated Source of Supply: Portco, Inc., Portsmouth, VA

Contracting Activity: FEDERAL AVIATION ADMINISTRATION, 697DCK REGIONAL ACQUISITIONS SVCS

Service Type: Janitorial Service

Mandatory for: FAA, Air Traffic Control Tower, Roanoke, VA

Designated Source of Supply: Goodwill Industries of the Valleys, Inc., Roanoke, VA

Contracting Activity: FEDERAL AVIATION ADMINISTRATION, 697DCK REGIONAL ACQUISITIONS SVCS

Deletions

On 11/6/2020, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

7510-01-357-6830—Pad, Executive Message Recording, White/Yellow, 2⅝″ x 6¼″, 400 Message Forms

Designated Source of Supply: Winston-Salem Industries for the Blind, Inc., Winston-Salem, NC; The Arkansas Lighthouse for the Blind, Little Rock, AR

Contracting Activity: GSA/FAS ADMIN SVCS ACQUISITION BR (2, NEW YORK, NY

NSN(s)—Product Name(s):

7530-01-600-2026—Notebook, Memorandum Book, 100% PCW, 3x5″, 60 sheets, Narrow Rule, White

7530-01-600-2028—Notebook, Spiral Bound, 100% PCW, 8½x11″, 80 sheets, College Rule, White

7530-01-600-2027—Notebook, Spiral Bound, 100% PCW, 8½x11″, 100 sheets, Wide Rule, White

7530-01-600-2016—Notebook, Spiral Bound, 100% PCW, 8½x11”, 120 sheets, College Rule, White

7530-01-600-2015—Notebook, Spiral Bound, 100% PCW, 8½x11″, 200 sheets, College Rule, White

7530-01-600-2021—Notebook, Spiral Bound, 100% PCW, 8x10½″, 70 sheets, Wide Rule, White

Designated Source of Supply: Winston-Salem Industries for the Blind, Inc., Winston-Salem, NC

Contracting Activity: GSA/FAS ADMIN SVCS ACQUISITION BR(2, NEW YORK, NY

NSN(s)—Product Name(s):

1005-01-134-3621—Index, Elevation

Designated Source of Supply: Arizona Industries for the Blind, Phoenix, AZ

Contracting Activity: DLA LAND AND MARITIME, COLUMBUS, OH

Service(s)

Service Type: Cutting and Assembly

Mandatory for: Robins Air Force Base, Robins AFB, GA

Designated Source of Supply: Middle Georgia Diversified Industries, Inc., Dublin, GA

Contracting Activity: DEFENSE LOGISTICS AGENCY, DLA AVIATION

Service Type: Janitorial/Custodial

Mandatory for: Denver Federal Center: Building 95, Denver, CO

Designated Source of Supply: North Metro Community Services for Developmentally Disabled, Westminster, CO

Contracting Activity: GENERAL SERVICES ADMINISTRATION, FPDS AGENCY COORDINATOR

Service Type: Vehicle Washing Service

Mandatory for: US Customs and Border Protection, Island of Puerto Rico & Virgin Islands, San Juan, PR

Designated Source of Supply: The Corporate Source, Inc., Garden City, NY

Contracting Activity: U.S. CUSTOMS AND BORDER PROTECTION, BORDER ENFORCEMENT CTR DIV

Service Type: Janitorial/Grounds Maintenance

Mandatory for: US Customs and Border Protection, Big Bend Sector Texas, Marfa, TX

Designated Source of Supply: Professional Contract Services, Inc., Austin, TX

Contracting Activity: U.S. CUSTOMS AND BORDER PROTECTION, BORDER ENFORCEMENT CTR DIV

Service Type: Janitorial/Custodial

Mandatory for: Naval Intelligence Command Building: (NIC II including trailers 1, 2 and 3), Suitland, MD

Designated Source of Supply: Melwood Horticultural Training Center, Inc., Upper Marlboro, MD

Contracting Activity: GENERAL SERVICES ADMINISTRATION, FPDS AGENCY COORDINATOR

Service Type: Custodial & Grounds Maintenance

Mandatory for: Immigration and Customs Enforcement: Penthouse Floor and Parking Floor, San Juan, PR

Immigration and Customs Enforcement: Calle Gonzalez Clemente #30, Mayaguez, PR

Designated Source of Supply: The Corporate Source, Inc., Garden City, NY

Contracting Activity: U.S. IMMIGRATION AND CUSTOMS ENFORCEMENT, MISSION SUPPORT DALLAS

Service Type: Janitorial/Custodial

Mandatory for: GSA, Leased Space: 603-11 East 2nd Street, Des Moines, IA

Mandatory for: U.S. Courthouse Annex, Des Moines, IA

Designated Source of Supply: Goodwill Solutions, Inc., Johnston, IA

Contracting Activity: PUBLIC BUILDINGS SERVICE, GSA/PUBLIC BUILDINGS SERVICE

Service Type: Custodial service

Mandatory for: National Counterdrug Training Center Campus, Annville, PA

Designated Source of Supply: Opportunity Center, Incorporated, Wilmington, DE

Contracting Activity: DEPT OF THE ARMY, W7NX USPFO ACTIVITY PA ARNG

Service Type: Janitorial/Custodial

Mandatory for: Annapolis USARC, Annapolis, MD

Mandatory for: Jecelin USARC, Baltimore, MD

Designated Source of Supply: CHI Centers, Inc., Silver Spring, MD

Contracting Activity: DEPT OF THE ARMY, W6QK ACC-PICA

Service Type: Janitorial/Custodial

Mandatory for: U.S. Federal Building, Courthouse and Post Office, Thomasville, GA

Designated Source of Supply: Thomas Grady Service Center, Inc., Thomasville, GA

Contracting Activity: PUBLIC BUILDINGS SERVICE, ACQUISITION DIVISION/SERVICES BRANCH

Service Type: Grounds Maintenance

Mandatory for: U.S. Army Reserve Center: 1635 Armor Road, Akron, OH

Contracting Activity: DEPT OF THE ARMY, W40M RHCO-ATLANTIC USAHCA

Michael R. Jurkowski,
Deputy Director, Business & PL Operations.

[FR Doc. 2020-27320 Filed 12-10-20; 8:45 am]

BILLING CODE 6353-01-P